DEPARTMENT OF TRANSPORTATION

Federal Aviation Administration

Notice of Passenger Facility Charge (PFC) Approvals and Disapprovals

AGENCY: Federal Aviation Administration (FAA), DOT.

ACTION: Monthly Notice of PFC Approvals and Disapprovals. In December 2013, there were three applications approved. This notice also includes information on eight applications, two approved in November 2012, one approved in August 2013, and five approved in November 2013, inadvertently left off the November 2012, August 2013, and November 2013 notices, respectively. Additionally, four approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR Part 158). This notice is published pursuant to paragraph d of § 158.29.

PFC Applications Approved

PUBLIC AGENCY: City of Chicago Department of Aviation, Chicago, Illinois.

APPLICATION NUMBER: 13-26-C-00-ORD.

APPLICATION TYPE: Impose and use a PFC.

PFC LEVEL: $4.50.

TOTAL PFC REVENUE APPROVED IN THIS DECISION: $2,484,000.

EARLIEST CHARGE EFFECTIVE DATE: November 1, 2038.

ESTIMATED CHARGE EXPIRATION DATE: December 1, 2038.

CLASS OF AIR CARRIERS NOT REQUIRED TO COLLECT PFC'S: Air taxi.

DETERMINATION: Approved. Based on information contained in the public agency's application, the FAA has determined that the approved class accounts for less than 1 percent of the total annual enplanements at Chicago O'Hare International Airport.

BRIEF DESCRIPTION OF PROJECT APPROVED FOR COLLECTION AND USE: O'Hare School sound insulation program—noise abatement modifications, St. Tarcissus School.

DECISION DATE: November 2, 2012.

FOR FURTHER INFORMATION CONTACT: Amy Hanson, Chicago Airports District Office, (847) 294-7354.

PUBLIC AGENCY: City of Atlanta Department of Aviation, Atlanta, Georgia.

APPLICATION NUMBER: 12-14-C-00-ATL.

APPLICATION TYPE: Impose and use a PFC.

PFC LEVEL: $4.50.

TOTAL PFC REVENUE APPROVED IN THIS DECISION: $24,355,000.

EARLIEST CHARGE EFFECTIVE DATE: October 1, 2023.

ESTIMATED CHARGE EXPIRATION DATE: December 1, 2023.

CLASS OF AIR CARRIERS NOT REQUIRED TO COLLECT PFC'S: Air taxi/commercial operators when enplaning revenue passengers in limited, irregular, special service air taxi/commercial operations such as air ambulance services, student instruction, and non-stop sightseeing flights, that begin and end at the airport and are concluded within a 25-mile radius of the airport.

DETERMINATION: Approved. Based on information contained in the public agency's application, the FAA has determined that the approved class accounts for less than 1 percent of the total annual enplanements at Hartsfield—Jackson Atlanta International Airport.

BRIEF DESCRIPTION OF PROJECTS APPROVED FOR COLLECTION AND USE AT A $4.50 PFC LEVEL: North deicing facility. Runway 10/28 bridge and taxiway SG bridge deck visual enhancements.

DECISION DATE: November 29, 2012.

FOR FURTHER INFORMATION CONTACT: Scott Seritt, Atlanta Airports District Office, (404) 305-7150.

PUBLIC AGENCY: Broward County Aviation Department, Dania Beach, Florida.

APPLICATION NUMBER: 13-13-C-00-FLL.

APPLICATION TYPE: Impose and use a PFC.

PFC LEVEL: $4.50.

TOTAL PFC REVENUE APPROVED IN THIS DECISION: $50,899,175.

EARLIEST CHARGE EFFECTIVE DATE: February 1, 2031.

ESTIMATED CHARGE EXPIRATION DATE: February 1, 2032.

CLASS OF AIR CARRIERS NOT REQUIRED TO COLLECT PFC'S: Non-scheduled/on-demand air carriers.

DETERMINATION: Approved. Based on information contained in the public agency's application, the FAA has determined that the approved class accounts for less than 1 percent of the total annual enplanements at Fort Lauderdale/Hollywood International Airport.

BRIEF DESCRIPTION OF PROJECTS APPROVED FOR COLLECTION AND USE AT A $3.00 PFC LEVEL:

Loading bridges, phase II.

Rehabilitation of runway 9L/27R (design only).

Aircraft rescue and firefighting truck 210 replacement.

Disabled passenger lift replacement.

BRIEF DESCRIPTION OF PROJECT PARTIALLY APPROVED FOR COLLECTION AND USE AT A $4.50 PFC LEVEL: In-line explosives detection system baggage system.

DETERMINATION: Partially approved for collection and use. In accordance with § 158.15(b)(6), the duty free concession storage area in Terminal 2 is not PFC eligible. Further, in accordance with § 158.15(b)(2), the air carrier operations space is not PFC eligible. However, according to the PFC application, the costs of these relocations are not included in the PFC amount requested for this project so the PFC amount of the project is not being reduced as a result of the ineligible areas. In addition, the FAA found a mathematical error in the estimate for the baggage system in Terminal 4 and is reducing the approved PFC amount accordingly.

BRIEF DESCRIPTION OF PROJECT PARTIALLY APPROVED FOR COLLECTION AND USE AT A $3.00 PFC LEVEL: Hardstand operation equipment.

DETERMINATION: Partially approved for collection and use. In accordance with § 158.15(b)(2), the air stair component is not PFC eligible.

BRIEF DESCRIPTION OF WITHDRAWN PROJECT: Noise monitors.

DATE OF WITHDRAWAL: August 16, 2013.

DECISION DATE: August 26, 2013.

FOR FURTHER INFORMATION CONTACT: Susan Moore, Orlando Airports District Office, (407) 812-6331

PUBLIC AGENCY: State of Hawaii, Honolulu, Hawaii.

APPLICATION NUMBER: 13-05-C-00-HNL.

APPLICATION TYPE: Impose and use a PFC.

PFC LEVEL: $4.50.

TOTAL PFC REVENUE APPROVED IN THIS DECISION: $301,094,938.

EARLIEST CHARGE EFFECTIVE DATE: February 1, 2014.

ESTIMATED CHARGE EXPIRATION DATE: July 1, 2026.

CLASS OF AIR CARRIERS NOT REQUIRED TO COLLECT PFC'S: None.

BRIEF DESCRIPTION OF PROJECTS APPROVED FOR COLLECTION AT HONOLULU INTERNATIONAL AIRPORT (HNL) AND USE AT HNL AT A $4.50 PFC LEVEL: Runway 08R/26L pavement rehabilitation.

Runway 04R/22L pavement rehabilitation.

Install runway 04L/22R lighting system.

Loading bridge replacement—Overseas Terminal.

Construct new Mauka concourse.

Aircraft parking apron—Mauka concourse.

BRIEF DESCRIPTION OF PROJECTS APPROVED FOR COLLECTION AT HNL AND USE AT HNL AT A $3.00 PFC LEVEL:

Second level roadway improvements—Overseas Terminal.

Shuttle bus stations between gates 6 and 62—terminal improvements.

Roof canopy replacement—Overseas Terminal.

BRIEF DESCRIPTION OF PROJECTS APPROVED FOR COLLECTION AT HNL AND USE AT HILO INTERNATIONAL AIRPORT (ITO) AT A $4.50 PFC LEVEL: Construct aircraft rescue and firefighting facility.

Install access control and closed circuit television.

BRIEF DESCRIPTION OF PROJECTS APPROVED FOR COLLECTION AT HNL AND USE AT KONA INTERNATIONAL AT KEAHOLE AIRPORT (KOA) AT A $4.50 PFC LEVEL: Construct aircraft rescue and firefighting facility.

Install access control and closed circuit television.

BRIEF DESCRIPTION OF PROJECT APPROVED FOR COLLECTION AT HNL FOR FUTURE USE AT KAHULUI AIRPORT (OGG) AT A $3.00 PFC LEVEL: Land acquisition.

BRIEF DESCRIPTION OF PROJECT APPROVED FOR COLLECTION AT HNL AND USE AT HNL, ITO, KOA, OGG, AND LIHUE AIRPORT (LIH) AT A $3.00 PFC LEVEL: PFC administrative costs.

BRIEF DESCRIPTION OF WITHDRAWN PROJECTS: Taxiway Z structural improvements at HNL.

Runway 08L/26R widening at HNL.

DATE OF WITHDRAWAL: July 19, 2013/

DECISION DATE: November 22, 2013.

FOR FURTHER INFORMATION CONTACT: Steve Wong, Honolulu Airports District Office, (808) 541-1225.

PUBLIC AGENCY: State of Hawaii, Honolulu, Hawaii.

APPLICATION NUMBER: 13-05-C-00-OGG.

APPLICATION TYPE: Impose and use a PFC.

PFC LEVEL: $4.50.

TOTAL PFC REVENUE APPROVED IN THIS DECISION: $85,385,132.

EARLIEST CHARGE EFFECTIVE DATE: February 1, 2014.

ESTIMATED CHARGE EXPIRATION DATE: July 1, 2026.

CLASS OF AIR CARRIERS NOT REQUIRED TO COLLECT PFC'S: None.

BRIEF DESCRIPTION OF PROJECTS APPROVED FOR COLLECTION AT OGG AND USE AT HNL AT A $4.50 PFC LEVEL: Runway 08R/26L pavement rehabilitation.

Runway 04R/22L pavement rehabilitation.

Install runway 04L/22R lighting system.

Loading bridge replacement—Overseas Terminal.

Construct new Mauka concourse.

Aircraft parking apron—Mauka concourse.

BRIEF DESCRIPTION OF PROJECTS APPROVED FOR COLLECTION AT OGG AND USE AT HNL AT A $3.00 PFC LEVEL: Second level roadway improvements—Overseas Terminal.

Shuttle bus stations between gates 6 and 62—terminal improvements.

Roof canopy replacement—Overseas Terminal.

BRIEF DESCRIPTION OF PROJECTS APPROVED FOR COLLECTION AT OGG AND USE AT ITO AT A $4.50 PFC LEVEL: Construct aircraft rescue and firefighting facility.

Install access control and closed circuit television.

BRIEF DESCRIPTION OF PROJECTS APPROVED FOR COLLECTION AT OGG AND USE AT KOA AT A $4.50 PFC LEVEL: Construct aircraft rescue and firefighting facility.

Install access control and closed circuit television.

BRIEF DESCRIPTION OF PROJECT APPROVED FOR COLLECTION AT OGG FOR FUTURE USE AT OGG AT A $3.00 PFC LEVEL: Land acquisition.

BRIEF DESCRIPTION OF PROJECT APPROVED FOR COLLECTION AT OGG AND USE AT HNL, ITO, KOA, OGG, AND LIH AT A $3.00 PFC LEVEL: PFC administrative costs.

BRIEF DESCRIPTION OF WITHDRAWN PROJECTS: Taxiway Z structural improvements at HNL.

Runway 08L/26R widening at HNL.

DATE OF WITHDRAWAL: July 19, 2013/

DECISION DATE: November 22, 2013.

FOR FURTHER INFORMATION CONTACT: Steve Wong, Honolulu Airports District Office, (808) 541-1225.

PUBLIC AGENCY: State of Hawaii, Honolulu, Hawaii.

APPLICATION NUMBER: 13-05-C-00-KOA.

APPLICATION TYPE: Impose and use a PFC.

PFC LEVEL: $4.50.

TOTAL PFC REVENUE APPROVED IN THIS DECISION: $26,963,726.

EARLIEST CHARGE EFFECTIVE DATE: February 1, 2014.

ESTIMATED CHARGE EXPIRATION DATE: July 1, 2026.

CLASS OF AIR CARRIERS NOT REQUIRED TO COLLECT PFC'S: None.

BRIEF DESCRIPTION OF PROJECTS APPROVED FOR COLLECTION AT KOA AND USE AT HNL AT A $4.50 PFC LEVEL: Runway 08R/26L pavement rehabilitation.

Runway 04R/22L pavement rehabilitation.

Install runway 04L/22R lighting system.

Loading bridge replacement—Overseas Terminal.

Construct new Mauka concourse.

Aircraft parking apron—Mauka concourse.

BRIEF DESCRIPTION OF PROJECTS APPROVED FOR COLLECTION AT KOA AND USE AT HNL AT A $3.00 PFC LEVEL: Second level roadway improvements—Overseas Terminal.

Shuttle bus stations between gates 6 and 62—terminal improvements.

Roof canopy replacement—Overseas Terminal.

BRIEF DESCRIPTION OF PROJECTS APPROVED FOR COLLECTION AT KOA AND USE AT ITO AT A $4.50 PFC LEVEL: Construct aircraft rescue and firefighting facility.

Install access control and closed circuit television.

BRIEF DESCRIPTION OF PROJECTS APPROVED FOR COLLECTION AT KOA AND USE AT KOA AT A $4.50 PFC LEVEL: Construct aircraft rescue and firefighting facility.

Install access control and closed circuit television.

BRIEF DESCRIPTION OF PROJECT APPROVED FOR COLLECTION AT KOA FOR FUTURE USE AT OGG AT A $3.00 PFC LEVEL: Land acquisition.

BRIEF DESCRIPTION OF PROJECT APPROVED FOR COLLECTION AT KOA AND USE AT HNL, ITO, KOA, OGG, AND LIH AT A $3.00 PFC LEVEL: PFC administrative costs.

BRIEF DESCRIPTION OF WITHDRAWN PROJECTS: Taxiway Z structural improvements at HNL.

Runway 08L/26R widening at HNL.

DATE OF WITHDRAWAL: July 19, 2013/

DECISION DATE: November 22, 2013.

FOR FURTHER INFORMATION CONTACT: Steve Wong, Honolulu Airports District Office, (808) 541-1225.

PUBLIC AGENCY: State of Hawaii, Honolulu, Hawaii.

APPLICATION NUMBER: 13-05-C-00-LIH.

APPLICATION TYPE: Impose and use a PFC.

PFC LEVEL: $4.50.

TOTAL PFC REVENUE APPROVED IN THIS DECISION: $17,975,817.

EARLIEST CHARGE EFFECTIVE DATE: February 1, 2014.

ESTIMATED CHARGE EXPIRATION DATE: July 1, 2026.

CLASS OF AIR CARRIERS NOT REQUIRED TO COLLECT PFC'S: None.

BRIEF DESCRIPTION OF PROJECTS APPROVED FOR COLLECTION AT LIH AND USE AT HNL AT A $4.50 PFC LEVEL: Runway 08R/26L pavement rehabilitation.

Runway 04R/22L pavement rehabilitation.

Install runway 04L/22R lighting system.

Loading bridge replacement—Overseas Terminal.

Construct new Mauka concourse.

Aircraft parking apron—Mauka concourse.

BRIEF DESCRIPTION OF PROJECTS APPROVED FOR COLLECTION AT LIH AND USE AT HNL AT A $3.00 PFC LEVEL: Second level roadway improvements—Overseas Terminal.

Shuttle bus stations between gates 6 and 62—terminal improvements.

Roof canopy replacement—Overseas Terminal.

BRIEF DESCRIPTION OF PROJECTS APPROVED FOR COLLECTION AT LIH AND USE AT ITO AT A $4.50 PFC LEVEL: Construct aircraft rescue and firefighting facility.

Install access control and closed circuit television.

BRIEF DESCRIPTION OF PROJECTS APPROVED FOR COLLECTION AT LIH AND USE AT KOA AT A $4.50 PFC LEVEL: Construct aircraft rescue and firefighting facility.

Install access control and closed circuit television.

BRIEF DESCRIPTION OF PROJECT APPROVED FOR COLLECTION AT LIH FOR FUTURE USE AT OGG AT A $3.00 PFC LEVEL: Land acquisition.

BRIEF DESCRIPTION OF PROJECT APPROVED FOR COLLECTION AT LIH AND USE AT HNL, ITO, KOA, OGG, AND LIH AT A $3.00 PFC LEVEL: PFC administrative costs.

BRIEF DESCRIPTION OF WITHDRAWN PROJECTS: Taxiway Z structural improvements at HNL.

Runway 08L/26R widening at HNL.

DATE OF WITHDRAWAL: July 19, 2013/

DECISION DATE: November 22, 2013.

FOR FURTHER INFORMATION CONTACT: Steve Wong, Honolulu Airports District Office, (808) 541-1225.

PUBLIC AGENCY: State of Hawaii, Honolulu, Hawaii.

APPLICATION NUMBER: 13-03-C-00-ITO.

APPLICATION TYPE: Impose and use a PFC.

PFC LEVEL: $4.50.

TOTAL PFC REVENUE APPROVED IN THIS DECISION: $17,975,817.

EARLIEST CHARGE EFFECTIVE DATE: February 1, 2014.

ESTIMATED CHARGE EXPIRATION DATE: July 1, 2026.

CLASS OF AIR CARRIERS NOT REQUIRED TO COLLECT PFC'S: None.

BRIEF DESCRIPTION OF PROJECTS APPROVED FOR COLLECTION AT ITO AND USE AT HNL AT A $4.50 PFC LEVEL: Runway 08R/26L pavement rehabilitation.

Runway 04R/22L pavement rehabilitation.

Install runway 04L/22R lighting system.

Loading bridge replacement—Overseas Terminal.

Construct new Mauka concourse.

Aircraft parking apron—Mauka concourse.

BRIEF DESCRIPTION OF PROJECTS APPROVED FOR COLLECTION AT ITO AND USE AT HNL AT A $3.00 PFC LEVEL: Second level roadway improvements—Overseas Terminal.

Shuttle bus stations between gates 6 and 62—terminal improvements.

Roof canopy replacement—Overseas Terminal.

BRIEF DESCRIPTION OF PROJECTS APPROVED FOR COLLECTION AT ITO AND USE AT ITO AT A $4.50 PFC LEVEL: Construct aircraft rescue and firefighting facility.

Install access control and closed circuit television.

BRIEF DESCRIPTION OF PROJECTS APPROVED FOR COLLECTION AT ITO AND USE AT KOA AT A $4.50 PFC LEVEL: Construct aircraft rescue and firefighting facility.

Install access control and closed circuit television.

BRIEF DESCRIPTION OF PROJECT APPROVED FOR COLLECTION AT ITO FOR FUTURE USE AT OGG AT A $3.00 PFC LEVEL: Land acquisition.

BRIEF DESCRIPTION OF PROJECT APPROVED FOR COLLECTION AT ITO AND USE AT HNL, ITO, KOA, OGG, AND LIH AT A $3.00 PFC LEVEL: PFC administrative costs.

BRIEF DESCRIPTION OF WITHDRAWN PROJECTS: Taxiway Z structural improvements at HNL.

Runway 08L/26R widening at HNL.

DATE OF WITHDRAWAL: July 19, 2013/

DECISION DATE: November 22, 2013.

FOR FURTHER INFORMATION CONTACT: Steve Wong, Honolulu Airports District Office, (808) 541-1225.

PUBLIC AGENCY: Monterey Peninsula Airport District, Monterey, California.

APPLICATION NUMBER: 14-19-C-00-MRY.

APPLICATION TYPE: Impose and use a PFC.

PFC LEVEL: $4.50.

TOTAL PFC REVENUE APPROVED IN THIS DECISION: $925,000.

EARLIEST CHARGE EFFECTIVE DATE: February 1, 2014.

ESTIMATED CHARGE EXPIRATION DATE: May 1, 2015.

CLASSES OF AIR CARRIERS NOT REQUIRED TO COLLECT PFC'S:

(1) Non-scheduled/on-demand air carriers filing FAA Form 1800-31; and (2) commuters or small certificated air carriers filing Department of Transportation (DOT) Form T-100.

DETERMINATION: Approved. Based on information contained in the public agency's application, the FAA has determined that each of the approved classes accounts for less than 1 percent of the total annual enplanements at Monterey Peninsula Airport.

BRIEF DESCRIPTION OF PROJECTS APPROVED FOR COLLECTION AND USE: Acquire one standard police vehicle—security improvement.

Improve runway safety area, runway 10R/28L—phase 4.

DECISION DATE: December 3, 2013.

FOR FURTHER INFORMATION CONTACT: Neil Kumar, San Francisco Airports District Office, (650) 827-7627.

PUBLIC AGENCY: Jackson County Airport Authority, Medford, Oregon.

APPLICATION NUMBER: 14-11-C-00-MFR.

APPLICATION TYPE: Impose and use a PFC.

PFC LEVEL: $4.50.

TOTAL PFC REVENUE APPROVED IN THIS DECISION: $1,082,418.

EARLIEST CHARGE EFFECTIVE DATE: September 1, 2025.

ESTIMATED CHARGE EXPIRATION DATE: August 1, 2026.

CLASS OF AIR CARRIERS NOT REQUIRED TO COLLECT PFC'S: Air taxi/commercial operators when enplaning revenue passengers in limited, irregular, special service air taxi/commercial operations such as air ambulance services, student instruction, and non-stop sightseeing flights, that begin and end at the airport and are concluded within a 25-mile radius of the airport.

DETERMINATION: Approved. Based on information contained in the public agency's application, the FAA has determined that the approved class accounts for less than 1 percent of the total annual enplanements at Rogue Valley International—Medford Airport.

BRIEF DESCRIPTION OF PROJECTS APPROVED FOR COLLECTION AND USE:

Rehabilitate taxiway C design.

Rehabilitate taxiway B/C construction.

Snow removal equipment (rotary plow).

Rehabilitate taxilanes.

Rehabilitate runway 14/32.

Relocate perimeter fencing.

PFC administration.

DECISION DATE: December 10, 2013.

FOR FURTHER INFORMATION CONTACT: Trang Tran, Seattle Airports District Office, (425) 227-1662.

PUBLIC AGENCY: County of Delta, Escanaba, Michigan.

APPLICATION NUMBER: 14-09-C-00-ESC.

APPLICATION TYPE: Impose and use a PFC.

PFC LEVEL: $4.50.

TOTAL PFC REVENUE APPROVED IN THIS DECISION: $134,671.

EARLIEST CHARGE EFFECTIVE DATE: April 1, 2014.

ESTIMATED CHARGE EXPIRATION DATE: November 1, 2016.

CLASS OF AIR CARRIERS NOT REQUIRED TO COLLECT PFC'S: None.

BRIEF DESCRIPTION OF PROJECTS APPROVED FOR COLLECTION AND USE: Airport layout plan update.

Runway 9/27 rehabilitation.

Environmental study.

Westland mitigation.

Acquire easements.

Obstruction removal.

Construct taxiway lighting.

Install supplemental wind cone.

Design and construct snow removal equipment building.

Design and construct perimeter fence.

Rehabilitate taxiways.

Rehabilitate runway 18/36.

Runway safety improvements, runway 18/36.

Apron rehabilitation.

Taxiway B widening and taxiway C rehabilitation.

DECISION DATE: December 19, 2013.

FOR FURTHER INFORMATION CONTACT: Irene Porter, Detroit Airports District Office, (734) 229-2915.

Amendments to PFC Approvals
Amendment No. city, state | Amendment approved date | Original approved net PFC revenue | Amended approved net PFC revenue | Original estimated charge exp. date | Amended estimated charge exp. date
10-08-C-02-GCC Gillette, WY | 12/3/13 | $813,164 | $793,843 | 11/01/14 | 01/01/14
10-04-C-01-CEC Crescent City, CA | 12/4/13 | $96,221 | $75,221 | 07/01/18 | 10/01/14
07-04-C-01-RAP Rapid City, SD | 12/4/13 | $1,401,088 | $728,665 | 09/01/08 | 02/01/08
07-05-C-01-LAWTON, OK | 12/17/13 | $357,888 | $566,166 | 04/01/09 | 04/01/09

Issued in Washington, DC, on March 6, 2014.
Joe Hebert,
Manager, Financial Analysis and Passenger Facility Charge Branch.

[FR Doc. 2014-05350 Filed 3-11-14; 8:45 am]

BILLING CODE 4910-13-P